DEPARTMENT OF JUSTICE

Notice of Lodging Proposed Consent Decree

In accordance with Departmental Policy, 28 CFR 50.7, notice is hereby given that a proposed Consent Decree in United States v. Port of Tacoma, et al., No. 11-cv-05253-RJB, was lodged with the United States District Court for the Western District of Washington on August 5, 2013.

This proposed Consent Decree concerns a complaint filed by the United States against the Port of Tacoma, Scarsella Brothers, Inc., Waka Group, Inc., and DEMCO, Inc., pursuant to 33 U.S.C. 1311, to obtain injunctive relief from and impose civil penalties against the Defendants for violating the Clean Water Act by discharging pollutants without a permit into waters of the United States. The State of Washington was also named as a party to the case, as required by 33 U.S.C. 1319(e), and is a signatory to the proposed Consent Decree. The proposed Consent Decree resolves the allegations against the Port of Tacoma, Scarsella Brothers, Inc., and Waka Group, Inc., by requiring those Defendants to restore the impacted areas, perform mitigation, and pay a civil penalty.

The Department of Justice will accept written comments relating to this proposed Consent Decree for thirty (30) days from the date of publication of this Notice. Please address comments to Austin D. Saylor, United States Department of Justice, Environment and Natural Resources Division, P.O. Box 7611, Washington, DC 20044, and refer to United States v. Port of Tacoma, et al., DJ # 90-5-1-1-18939.

The proposed Consent Decree may be examined at the Clerk's Office, United States District Court for the Western District of Washington, 700 Stewart Street, Suite 2310, Seattle, WA 98101. In addition, the proposed Consent Decree may be examined electronically at http://www.justice.gov/enrd/Consent_Decrees.html.

Cherie L. Rogers,
Assistant Section Chief, Environmental Defense Section, Environment and Natural Resources Division.

[FR Doc. 2013-19889 Filed 8-15-13; 8:45 am]

BILLING CODE P